DEPARTMENT OF TRANSPORTATION

Federal Aviation Administration

14 CFR Part 39

[Docket No. FAA-2009-0432; Directorate Identifier 2008-NM-168-AD; Amendment 39-15982; AD 2009-15-19]

RIN 2120-AA64

Airworthiness Directives; BAE Systems (Operations) Limited Model BAe 146-100A and 146-200A Series Airplanes

AGENCY: Federal Aviation Administration (FAA), Department of Transportation (DOT).

ACTION: Final rule; correction.

SUMMARY: The FAA is correcting a typographical error in an existing airworthiness directive (AD) that was published in the Federal Register on July 29, 2009. The error resulted in an incorrect AD number appearing in one location of the document. This AD applies to certain BAE Systems (Operations) Limited Model BAe 146-100A and 146-200A series airplanes. This AD requires inspecting for damage of the horizontal stabilizer lower skin and joint plates, and doing related investigative and corrective actions.

DATES: Effective September 2, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION: On July 13, 2009, the FAA issued AD 2009-15-19, amendment 39-15982 (74 FR 37528, July 29, 2009), for certain BAE Systems (Operations) Limited Model BAe 146-100A and 146-200A series airplanes. This AD requires inspecting for damage of the horizontal stabilizer lower skin and joint plates, and doing related investigative and corrective actions.

As published, the final rule incorrectly specified the AD number in a single location in the AD as “2008-15-19” instead of “2009-15-19.”

No other part of the regulatory information has been changed; therefore, the final rule is not republished in the Federal Register.

The effective date of this AD remains September 2, 2009.

§ 39.13 [Corrected]

In the Federal Register of July 29, 2009, on page 37529, in the first column, paragraph 2. of PART 39—AIRWORTHINESS DIRECTIVES is corrected to read as follows:

* * * * *

2009-15-19 BAE Systems (Operations) Limited (Formerly British Aerospace Regional Aircraft): Amendment 39-15982. Docket No. FAA-2009-0432; Directorate Identifier 2008-NM-168-AD.

* * * * *

Issued in Renton, Washington, on August 24, 2009.
Ali Bahrami,
Manager, Transport Airplane Directorate, Aircraft Certification Service.

[FR Doc. E9-21039 Filed 9-1-09; 8:45 am]

BILLING CODE 4910-13-P